DEPARTMENT OF COMMERCE

International Trade Administration

[C-533-063]

Certain Iron-Metal Castings From India: Notice of Court Decision

AGENCY: Import Administration, International Trade Administration, Department of Commerce.

ACTION: Notice of court decision.

SUMMARY: On January 24, 2001, the United States Court of International Trade (CIT) affirmed the International Trade Administration's remand determination regarding the calculation of subsidies provided under section 80HHC of India's Income Tax Act.

EFFECTIVE DATE: February 21, 2001.

FOR FURTHER INFORMATION CONTACT: Robert Copyak, Office of AD/CVD Enforcement VI, Group II, Import Administration, International Trade Administration, U.S. Department of Commerce, 14th Street and Constitution Avenue, NW., Washington, DC 20230; telephone: (202) 482-2786.

SUPPLEMENTARY INFORMATION:

Background

Under section 80HHC of India's Income Tax Act, exporters of iron-metal castings are eligible to claim tax exemptions based on their export profits. In Certain Iron-Metal Castings From India; Final Results of Countervailing Duty Administrative Review, 60 Fed. Reg. 44,849 (Aug. 29, 1995) (the 1990 period of reveiw), the Department calculated these subsidies without adjusting for other subsidies received under India's International Price Reimbursement Scheme (IPRS) and India's Cash Compensatory Support Scheme (CCS). In Crescent Foundry Co. Pvt. Ltd., et al. v. United States, Slip Op. 00-148 (CIT Nov. 9, 2000), the court remanded the final results of the 1990 administrative review and directed the Department to recalculate these subsidies by subtracting IPRS rebates and CCS rebate from taxable income before determining any section 80HHC benefit. The Department's subsequent remand determination reflected the Court's instructions and was affirmed in Crescent Foundry Co. Pvt. Ltd, et al. v. United States, Slip Op. 01-6 (CIT Jan. 24, 2001).

In its decision in Timken Co. v. United States, 893 F.2d 337 (Fed. Cir. 1990) (Timken), the United States Court of Appeals for the Federal Circuit held that, pursuant to 19 USC section 1516a(e), the Department must publish a notice of a court decision which is not “in harmony” with a Department determination, and must suspend liquidation of entries pending a “conclusive” court decision. The CIT's opinion in Crescent Foundry Co. Pvt. Ltd, et al. v. United States, Slip Op. 01-6 (CIT Jan. 24, 2001), constitutes a decision not in harmony with the Department's final affirmative results of countervailing duty administrative review. Publication of this notice fulfills the Timken requirement.

Accordingly, the Department will continue to suspend liquidation pending the expiration of the period of appeal, or, if appealed, upon a “conclusive” court decision.

Dated: February 13, 2001.
Holly A. Kuga,
Acting Deputy Assistant Secretary for Import Administration.

[FR Doc. 01-4286 Filed 2-20-01; 8:45 am]

BILLING CODE 3510-DS-P